DEPARTMENT OF ENERGY

Office of Fossil Energy

[FE Docket Nos. 02-38-NG, 02-41-NG, 02-20-NG, 02-42-NG, 02-40-NG, 02-43-NG, 02-45-NG, 02-39-NG, and 02-46-NG]

Chevron U.S.A. Inc., United States Gypsum Company, Chehalis Power Generating, Limited Partnership, Boise Cascade Corporation, St. Lawrence Gas Company, Inc., Premstar Energy Canada Ltd., Calpine Energy Services, L.P., Anadarko Energy Services Company, Power City Partners, L.P.; Orders Granting Authority To Import and Export Natural Gas, Including Liquefied Natural Gas

AGENCY: Office of Fossil Energy, DOE.

ACTION: Notice of Orders.

SUMMARY: The Office of Fossil Energy (FE) of the Department of Energy gives notice that during June 2002, it issued Orders granting authority to import and export natural gas, including liquefied natural gas. These Orders are summarized in the attached appendix and may be found on the FE web site at http://www.fe.doe.gov (select gas regulation), or on the electronic bulletin board at (202) 586-7853. They are also available for inspection and copying in the Office of Natural Gas & Petroleum Import & Export Activities, Docket Room 3E-033, Forrestal Building, 1000 Independence Avenue, SW., Washington, DC 20585, (202) 586-9478. The Docket Room is open between the hours of 8 a.m. and 4:30 p.m., Monday through Friday, except Federal holidays.

Issued in Washington, DC, on July, 2002.
Clifford P. Tomaszewski,
Manager, Natural Gas Regulation, Office of Natural Gas & Petroleum Import & Export Activities, Office of Fossil Energy.

Appendix

Orders Granting Import/Export Authorizations
Order No. | Date issued | Importer/Exporter FE Docket No. | Import volume | Export volume | Comments
1785 | 6-4-02 | Chevron U.S.A. Inc., 02-38-NG | 18 Bcf |  | Import natural gas from Canada, beginning on July 1, 2002, and extending through June 30, 2004.
1786 | 6-5-02 | United States Gypsum Company 02-41-NG | 7.3 Bcf |  | Import natural gas from Canada, beginning on November 1, 2001, and extending through October 31, 2003.
1787 | 6-10-02 | Chehalis Power Generating, Limited Partnership, 02-20-NG | 65.7 Bcf |  | Import natural gas from Canada, beginning on January 1, 2003, and extending through December 31, 2004.
1788 | 6-14-02 | Boise Cascade Corporation, 02-42-NG | 10 Bcf |  | Import and export a combined total of natural gas from and to Canada, beginning on November 1, 2002, and extending through October 31, 2004.
1789 | 6-17-02 | St. Lawrence Gas Company, 02-40-NG | 25.8 Bcf |  | Import natural gas from Canada, Inc. beginning on July 26, 2002, and extending through July 25, 2004.
1790 | 6-17-02 | Premstar Energy Canada Ltd. 02-43-NG | 400 Bcf |  | Import and export a combined total of natural gas from and to Canada, beginning on July 1, 2003, and extending through June 30, 2004.
1791 | 6-20-02 | Calpine Energy Services, L.P. 02-45-NG | 300 Bcf |  | Import and export a combined total of natural gas from and to Canada, beginning on July 1, 2002, and extending through June 30, 2004.
1792 | 6-25-02 | Anadarko Energy Services Company, 02-39-NG | 100 Bcf/50 Bcf |  | Import and export a combined total of natural gas from and to Canada, and import LNG from various sources beginning on May 1, 2002, and extending through April 30, 2004.
1793 | 6-25-02 | Power City Partners, L.P. 02-46-NG | 146 Bcf |  | Import natural gas from Canada, beginning on July 1, 2002, and extending through June 30, 2004.

[FR Doc. 02-18962 Filed 7-25-02; 8:45 am]

BILLING CODE 6450-01-P